DEPARTMENT OF HEALTH AND HUMAN SERVICES

Centers for Disease Control and Prevention

Board of Scientific Counselors, National Center for Injury Prevention and Control, (BSC, NCIPC)

In accordance with Section 10(a)(2) of the Federal Advisory Committee Act (Pub. L. 92-463), the Centers for Disease Control and Prevention (CDC) announces, the following meeting of the aforementioned committee:

Time and Date:8:30 a.m.-4:30 p.m. Eastern Time, November 15, 2013.

Place: Teleconference.

Status: The meeting is open to the public; the toll free dial in number is 1-877-937-9818 and the passcode is 7551384.

Purpose: The board makes recommendations regarding policies, strategies, objectives, and priorities, and reviews progress toward injury prevention goals and provides evidence in injury prevention-related research and programs. The board provides advice on the appropriate balance of intramural and extramural research, and provides advice on the structure, progress and performance of intramural programs. The Board of Scientific Counselors is also designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals. The board shall provide guidance on the National Center of Injury Prevention and Control's programs and research activities by conducting scientific peer review of intramural research and programs within the National Center for Injury Prevention and Control; by ensuring adherence to Office of Management and Budget requirements for intramural peer review; and by monitoring the overall direction, focus, and success of the National Center for Injury Prevention and Control.

Matters to be Discussed: The BSC, NCIPC will discuss the recommendations provided by the expert panel on the Health Communication Portfolio Review that has been conducted and to discuss research strategies needed to guide the Center's focus. The BSC members will also discuss potential topics for the upcoming Portfolio Review. There will be 15 minutes allotted for public comments at the end of the open session.

Agenda items are subject to change as priorities dictate.

Contact Person for More Information: Gwendolyn H. Cattledge, Ph.D., M.S.E.H., Designated Federal Official, NCIPC, CDC, 4770 Buford Highway NE., Mailstop F-63, Atlanta, Georgia 30341, Telephone: (770) 488-1430.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-25427 Filed 10-28-13; 8:45 am]

BILLING CODE 4163-18-P